DEPARTMENT OF TRANSPORTATION

Maritime Administration

Voluntary Intermodal Sealift Agreement (VISA)/Joint Planning Advisory Group (JPAG)

AGENCY: Maritime Administration, Department of Transportation.

ACTION: Synopsis of April 19, 2001 meeting with VISA participants.

On April 19, 2001, the Maritime Administration (MARAD) and the United States Transportation Command (USTRANSCOM) co-hosted a meeting of the VISA JPAG at MARAD headquarters, Washington, DC.

Meeting attendance was by invitation only, due to the nature of the information discussed and the need for a government-issued security clearance. Of the 55 U.S.-flag carrier corporate participants currently enrolled in VISA, 23 VISA carrier representative companies participated in the JPAG. In addition, JPAG attendance included representatives from the Department of Defense (DOD), the Military Traffic Management Command, Military Sealift Command, USTRANSCOM and MARAD.

Following opening remarks by Acting Deputy Maritime Administrator Bruce J. Carlton and Mr. Daniel F. McMillin, Deputy Director, Plans and Policy Directorate (TCJ5) USTRANSCOM, Government representatives provided participants with an overview of expected outcomes. The JPAG objectives included: (1) Familiarization of VISA participants with the specific procedures to be used during a VISA activation; (2) validation of DOD planning assumptions for VISA carrier liner routes; (3) an examination of VISA carriers ability to fulfill potential contingency requirements as well as identification of equipment capabilities and/or shortfalls; and (4) an update on progress made toward training U.S. civilian mariners to operate in a chemical/biological warfare environment.

During the JPAG, VISA participants convened in separate work groups with Government analysts to offer solutions and recommendations to satisfy DOD requirements. Afterwards, the groups met together to discuss the results. The VISA participants were also briefed on the USTRANSCOM sponsored Exercise “Turbo Challenge 2001”.

The full text of the VISA program is published in 66 FR 10938-10947, dated February 20, 2001. One of the program requirements is that MARAD periodically publish a list of VISA participants in the Federal Register. As of April 19, 2001, the following commercial U.S.-flag vessel operators were enrolled in VISA with MARAD: Alaska Cargo Transport Inc., American Automar, Inc., American President Lines, Ltd., American Roll-On Roll-Off Carrier, LLC, American Ship Management, L.L.C., Automar International Car Carrier, Inc., Beyel Brothers Inc., Central Gulf Lines, Inc., Cook Inlet Marine, Crowley Liner Services, Inc., Crowley Marine Services, Inc., CSX Lines, LLC, Donjon Marine Co., Double Eagle Marine, LLC, E-Ships, Inc., Farrell Lines Incorporated, First American Bulk Carrier Corp., First Ocean Bulk Carrier-I, LLC, First Ocean Bulk Carrier-II, LLC, First Ocean Bulk Carrier-III, LLC, Foss Maritime Company, Gimrock Maritime, Inc., Lockwood Brothers, Inc., Liberty Shipping Group Limited Partnership, Lykes Lines Limited, LLC., Lynden Incorporated, Maersk Line, Limited, Matson Navigation Company, Inc., Maybank Navigation Company, LLC, McAllister Towing & Transportation Company, Inc., Moby Marine Corporation, Moran Towing Corporation, NPR, Inc., Ocean Marine Shipping, Inc., Odyssea Shipping Line LLC, OSG Car Carriers, Inc., Resolve Towing & Salvage, Inc., Samson Tug & Barge Company, Inc., Sea Star Line, LLC, Seacor Marine International Inc., Sealift Inc., Signet Maritime Corporation, Smith Maritime, STEA Corporation, Stevens Towing Co., Inc., Superior Marine Services, Inc., Totem Ocean Trailer Express, Inc., Trailer Bridge, Inc., TransAtlantic Lines LLC, Trico Marine Operators, Inc., Troika International, Ltd., U.S. Ship Management, Inc., Van Ommeren Shipping (USA) LLC, Waterman Steamship Corporation, and Weeks Marine, Inc.

FOR FURTHER INFORMATION CONTACT: Mr. William F. Trost, Acting Director, Office of Sealift Support, (202) 366-2323.

Dated: April 25, 2001.
By Order of the Maritime Administrator.
Joel C. Richard,
Secretary.

[FR Doc. 01-10801 Filed 4-30-01; 8:45 am]

BILLING CODE 4910-81-P